DEPARTMENT OF ENERGY

[Docket No. 22-110-LNG]

NFE Altamira FLNG, S. de R.L. de C.V.; Application To Amend Export Term Through December 31, 2050, for Existing Non-Free Trade Agreement Authorization

AGENCY: Office of Fossil Energy and Carbon Management, Department of Energy.

ACTION: Notice of application.

SUMMARY: The Office of Fossil Energy and Carbon Management (FECM) of the Department of Energy (DOE) gives notice (Notice) of receipt of an application (Application), filed on April 1, 2025, by NFE Altamira FLNG, S. de R.L. de C.V. (NFE Altamira). NFE Altamira seeks to amend the export term set forth in its current authorization to export liquefied natural gas (LNG) to non-free trade agreement countries, DOE/FECM Order No. 5156, to a term ending on December 31, 2050. NFE Altamira filed the Application under the Natural Gas Act (NGA). Protests, motions to intervene, notices of intervention, and written comments on the requested term extension are invited.

DATES: Protests, motions to intervene, or notices of intervention, as applicable, requests for additional procedures, and written comments are to be filed as detailed in the Public Comment Procedures section no later than 4:30 p.m., Eastern time, on June 9, 2025.

ADDRESSES:

Electronic Filing by Email (strongly encouraged): fergas@hq.doe.gov.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov.

Irene V. Norville, U.S. Department of Energy (GC-76), Office of the Assistant General Counsel for Energy Delivery and Resilience, Forrestal Building, Room 6D-033, 1000 Independence Avenue SW, Washington, DC 20585, (240) 702-5679, irene.norville@hq.doe.gov.

SUPPLEMENTARY INFORMATION: On August 31, 2024, in Order No. 5156, DOE authorized NFE Altamira to re-export U.S.-sourced natural gas in the form of LNG (whether the U.S.-sourced natural gas is purchased in the United States or Mexico) in a volume equivalent to 145 billion cubic feet per year of natural gas, pursuant to NGA section 3(a), 15 U.S.C. 717b(a).¹ NFE Altamira is authorized to export this LNG by vessel from the existing New Fortress Energy Altamira FLNG Project (Project), located off the coast of Altamira, Tamaulipas, Mexico, to any country with which the United States has not entered into a free trade agreement (FTA) requiring national treatment for trade in natural gas, and with which trade is not prohibited by U.S. law or policy (non-FTA countries) for a five-year term extending through August 30, 2029.

¹ NFE Altamira FLNG, S. de R.L. de C.V., DOE/FECM Order No. 5156, Docket No. 22-110-LNG, Order Granting Long-Term Authorization to Re-Export U.S.-Sourced Natural Gas in the Form of Liquefied Natural Gas from Mexico to Non-Free Trade Agreement Nations (Aug. 31, 2024) [hereinafter Order No. 5156].

In the Application,² NFE Altamira asks DOE to extend its current export term to a term ending on December 31, 2050, because it contends that “the record developed before DOE/FECM already contains sufficient analysis supporting a Non-FTA authorization term through 2050.” ³ Additional details can be found in the Application, posted on the DOE website at: https://www.energy.gov/sites/default/files/2025-04/NFE%20Non-FTA%20Term%20Extension%20Request_22-110-LNG.pdf.

² NFE Altamira FLNG, S. de R.L. de C.V., Request for Extension of Term, DOE/FECM Order No. 5156, Docket No. 22-110-LNG (Apr. 1, 2024). NFE Altamira's FTA authorization, under Docket No, 22-110-LNG, DOE/FECM Order No. 4960 (Mar. 3, 2023), granted a term extending through December 31, 2050, and is not subject to this Notice. See 15 U.S.C. 717b(c).

³ Id. at 3.

DOE Evaluation

On August 25, 2020, DOE issued a policy statement entitled, “Extending Natural Gas Export Authorizations to Non-Free Trade Agreement Countries Through the Year 2050” (Policy Statement).⁴ In the Policy Statement, DOE adopted a term through December 31, 2050 (inclusive of any make-up period), as the standard export term for long-term non-FTA authorizations.⁵ As the basis for its decision, DOE considered its obligations under NGA section 3(a), the public comments supporting and opposing the proposed Policy Statement, and a wide range of information bearing on the public interest.⁶ DOE explained that, upon receipt of an application under the Policy Statement, it would conduct a public interest analysis of the application under NGA section 3(a). DOE further stated that “the public interest analysis will be limited to the application for the term extension—meaning an intervenor or protestor may challenge the requested extension but not the existing non-FTA order.” ⁷

⁴ U.S. Dep't of Energy, Extending Natural Gas Export Authorizations to Non-Free Trade Agreement Countries Through the Year 2050; Notice of Final Policy Statement and Response to Comments, 85 FR 52237 (Aug. 25, 2020) [hereinafter Policy Statement].

⁵ See id., 85 FR 52247.

⁶ See id.

⁷ Id.

In Order No. 5156, DOE noted that although NFE Altamira originally requested an export term that extends through December 31, 2050, the export term would be five years due to the absence of a complete record on which to grant a non-FTA authorization through the year 2050.⁸ Order No. 5156 provided that NFE Altamira may apply for an amendment to extend the five-year export term, which DOE would evaluate based on the record in existence at the time of the amendment application.⁹

⁸ Order No. 5156 at 27-28.

⁹ See id. at 28.

Accordingly, in reviewing NFE Altamira's Application, DOE will consider any issues required by law or policy under NGA section 3(a), as informed by the Policy Statement, DOE's regulations, and any other documents deemed appropriate. To the extent appropriate, DOE will consider the study entitled, 2024 LNG Export Study: Energy, Economic and Environmental Assessment of U.S. LNG Exports (2024 LNG Export Study),¹⁰ DOE's response to public comments received on that Study,¹¹ and any other relevant information contained in the record of this proceeding. Parties that may oppose the Application should address these issues and documents in their comments and/or protests, as well as other issues deemed relevant to the Application.

¹⁰ See OnLocation, Inc., Energy, Economic and Environmental Assessment of U.S. LNG Exports (Dec. 17, 2024), https://www.energy.gov/sites/default/files/2024-12/LNGUpdate_SummaryReport_Dec2024_230pm.pdf.The2024LNGExportStudy,includingallappendices,isavailableathttps://fossil.energy.gov/app/docketindex/docket/index/30.

¹¹ U.S. Dep't of Energy, Energy, Economic and Environmental Assessment of U.S. LNG Exports: Response to Comments Received on Study; https://www.energy.gov/sites/default/files/2025-05/2024%20LNG%20Export%20Study_Response%20to%20Comments_Final_05.19.2025.pdf (May, 2025).

The National Environmental Policy Act (NEPA), 42 U.S.C. 4321 et seq., requires DOE to give appropriate consideration to the environmental effects of its proposed decisions. No final decision will be issued in this proceeding until DOE has met its NEPA responsibilities

Public Comment Procedures

In response to this Notice, any person may file a protest, comments, or a motion to intervene or notice of intervention, as applicable. Interested parties will be provided 15 days from the date of publication of this Notice in which to submit comments, protests, motions to intervene, or notices of intervention. The public previously was given an opportunity to intervene in, protest, and comment on NFE Altamira's long-term non-FTA application. Therefore, DOE will not consider comments or protests that do not bear directly on the requested term extension.

Any person wishing to become a party to the proceeding must file a motion to intervene or notice of intervention. The filing of comments or a protest with respect to the Application will not serve to make the commenter or protestant a party to this proceeding, although protests and comments received from persons who are not parties will be considered in determining the appropriate action to be taken on the Application. All protests, comments, motions to intervene, or notices of intervention must meet the requirements specified by the regulations in 10 CFR part 590, including the service requirements.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket No. 22-110-LNG” or “NFE Altamira FLNG Application” in the title line.

For electronic submissions: Please include all related documents and attachments (e.g., exhibits) in the original email correspondence. Please do not include any active hyperlinks or password protection in any of the documents or attachments related to the filing. All electronic filings submitted to DOE must follow these guidelines to ensure that all documents are filed in a timely manner.

The Application and any filed protests, motions to intervene, notices of intervention, and comments will be available electronically on the DOE website at www.energy.gov/fecm/regulation.

A decisional record on the Application will be developed through responses to this Notice by parties, including the parties' written comments and replies thereto. Additional procedures will be used as necessary to achieve a complete understanding of the facts and issues. If an additional procedure is scheduled, notice will be provided to all parties. If no party requests additional procedures, a final Order may be issued based on the official record, including the Application and responses filed by parties pursuant to this Notice, in accordance with 10 CFR 590.316.

Signed in Washington, DC, on May 19, 2025.
Amy Sweeney,
Director, Office of Regulation, Analysis, and Engagement, Office of Resource Sustainability.

[FR Doc. 2025-09291 Filed 5-22-25; 8:45 am]

BILLING CODE 6450-01-P